Presidential Determination No. 2009-15 of January 27, 2009

Unexpected Urgent Refugee and Migration Needs Related To Gaza

Memorandum for the Secretary of State

By the authority vested in me by the Constitution and the laws of the United States, including section 2(c)(1) of the Migration and Refugee Assistance Act of 1962 (the “Act”), as amended (22 U.S.C. 2601), I hereby determine, pursuant to section 2(c)(1) of the Act, that it is important to the national interest to furnish assistance under the Act in an amount not to exceed $20.3 million from the United States Emergency Refugee and Migration Assistance Fund for the purpose of meeting unexpected and urgent refugee and migration needs, including by contributions to international, governmental, and nongovernmental organizations and payment of administrative expenses of Bureau of Population, Refugees, and Migration of the Department of State, related to humanitarian needs of Palestinian refugees and conflict victims in Gaza.

You are authorized and directed to publish this memorandum in the Federal Register.

THE WHITE HOUSE,

Washington, January 27, 2009

[FR Doc. E9-2488

Filed 2-3-09; 8:45 am]

Billing code 4710-10-P